DEPARTMENT OF ENERGY

Federal Energy Regulatory Commission

[Docket No. EC02-65-000, et al.]

Erie Boulevard Hydropower, L.P., et al.; Electric Rate and Corporate Regulation Filings

April 25, 2002.

The following filings have been made with the Commission. The filings are listed in ascending order within each docket classification.

1. Erie Boulevard Hydropower, L.P.

[Docket No. EC02-65-000]

Take notice that on April 19, 2002, Erie Boulevard Hydropower, L.P. (Erie) pursuant to Section 203 of the Federal Power Act, filed with the Federal Energy Regulatory Commission (Commission) an application seeking an order authorizing the acquisition of the transmission facilities associated with the 2.2 MW Newton Falls hydroelectric project owned by Newton Falls Holdings, LLC. Erie is a Delaware limited partnership which owns and operates 70 hydroelectric developments in the State of New York with a total related capacity of approximately 650 MW. The facilities to be acquired are located on the Oswegatchie River in St. Lawrence County, NY.

Comment Date: May 10, 2002.

2. Coastal Power International IV, Ltd.

[Docket No. EG02-122-000]

Take notice that on April 19, 2002, Coastal Power International IV, Ltd. (Coastal Power) filed with the Federal Energy Regulatory Commission (Commission), an application for determination of exempt wholesale generator (EWG) status pursuant to Part 365 of the Commission's regulations.

Comment Date: May 16, 2002.

3. Generadora Eléctrica Occidental S.A.

[Docket No. EG02-123-000]

Take notice that on April 19, 2002, Generadora Eléctrica Occidental S.A. (GEOSA) filed with the Federal Energy Regulatory Commission (Commission), pursuant to Part 365 of the Commission's regulations an application for determination of exempt wholesale generator (EWG) status as of the date that Elusa Power Investment Ltd. has completed its proposed acquisition of GEOSA.

Comment Date: May 16, 2002.

4. FPLE Forney, L.P.

[Docket No. EG02-124-000]

Take notice that on April 16, 2002, FPLE Forney, L.P. (the Applicant), with its principal office at 700 Universe Blvd., Juno Beach, Florida 33408, filed with the Federal Energy Regulatory Commission (Commission), an application for determination of exempt wholesale generator status pursuant to Part 365 of the Commission's regulations.

Applicant states that it is a Delaware limited partnership engaged directly and exclusively in the business of constructing and operating an approximately 1,750 MW gas-fired cogeneration facility to be located in Kaufman County, Texas. Electric energy produced by the facility will be sold at wholesale.

Comment Date: May 16, 2002.

5. AES NY, L.L.C, AES Eastern Energy, L.P., AES Creative Resources, L.P. and AEE 2, L.L.C.

[Docket Nos. ER99-1761-001, ER99-1773-002, ER99-2284-002]

Take notice that on April 19, 2002, AES Eastern Energy, L.P., AES Creative Resources, L.P., and AEE 2, L.L.C. tendered for filing a triennial market power analysis in compliance with AES NY, L.L.C., 86 FERC ¶61,002 (1999); Letter Order, Docket No. ER99-1761-000, Mar. 16, 1999; and Letter Order, Docket No. ER99-2284-000, Apr. 23, 1999.

Comment Date: May 10, 2002.

6. California Independent System Operator Corporation, California Independent System Operator Corporation, San Diego Gas & Electric Company

[Docket Nos. ER01-889-012, ER01-3013-004, and EL00-95-059]

Take notice that on April 17, 2002, the California Independent System Operator Corporation (ISO) tendered for filing amendments to its Employee Code of Conduct and Governors Code of Conduct.

This ISO states that this filing has been served upon the Public Utilities Commission of california, the California Energy Commission, the California Electricity Oversight Board, and all parties with effective Scheduling Coordinator Service Agreements under the ISO Tariff.

Comment Date: May 8, 2002.

7. TransAlta Energy Marketing (US) Inc.

[Docket No. ER01-3148-001]

Take notice that on April 22, 2002, in compliance with the Commission's March 29, 2002 letter order in Docket No. ER01-3148-000, TransAlta Energy Marketing (US) Inc. (TEMUS) submitted a request that the Commission accept for filing changes in the designation of Merchant Energy Group of the Americas, Inc.”s (MEGA) Rate Schedule FERC No. 1 to reflect TEMUS's succession to MEGA's rate schedule.

Comment Date: May 13, 2002.

8. American Electric Power

[Docket No. ER02-282-002]

Take notice that on April 22, 2002, American Electric Power Service Corporation (AEPSC), tendered for filing with the Federal Energy Regulatory Commission (Commission) a Facilities, Operation and Maintenance Agreement (Facility Agreement) dated June 1, 2001, between AEP, agent for Columbus Southern Power Company (CSP) and Buckeye Rural Electric Cooperative, Inc. (BREC) and Buckeye Power, Inc. (Buckeye).

The Facility Agreement provides for the establishment of a new BREC delivery point, pursuant to provisions of the Power Delivery Agreement (PDA) between CSP, Buckeye, The Cincinnati Gas & Electric Company, The Dayton Power and Light Company, Monongahela Power Company, Ohio Power Company and Toledo Edison Company, dated January 1, 1968. AEP requested an effective date of June 8, 2001 for the Facility Agreement.

The Facility Agreement was accepted for filing effective June 8, 2001 by Order dated December 20, 2001. This filing complies with the Commission's subsequent Order issued March 22, 2002 rejecting AEP's request for waiver of certain filing requirements.

AEP states that copies of its compliance filing were served upon BREC, Buckeye and the Public Utilities Commission of Ohio.

Comment Date: May 13, 2002.

9. Duke Energy Marshall, LLC

[Docket No. ER02-530-002]

Take notice that on April 22, 2002, Duke Energy Marshall, LLC filed a notice of status change with the Federal Energy Regulatory Commission (Commission) in connection with the Commission's Order authorizing a change in upstream control of Engage Energy America LLC and Frederickson Power L.P. resulting from a transaction involving Duke Energy Corporation and Westcoast Energy Inc. (Engage Energy America, LLC, Frederickson Power L.P., Duke Energy Corp., 98 FERC ¶ 61,207 (2002)).

Copies of the filing were served upon all parties on the official service list compiled by the Secretary of the Federal Energy Regulatory Commission in this proceeding.

Comment Date: May 13, 2002.

10. DTE East China, LLC

[Docket No. ER02-971-000]

Take notice that on April 19, 2002, DTE East China, LLC tendered for filing under Section 205 of the Federal Power Act an amendment to its application in the above-referenced docket requesting that the Commission hold in abeyance its request for market-based rate authorization.

Comment Date: May 10, 2002.

11. Virginia Electric and Power Company

[Docket No. ER02-1474-002]

Take notice that on April 22, 2002, Virginia Electric and Power Company, doing business as Dominion Virginia Power, tendered for filing a revised cover sheet and Section 2.1 to modify the proposed effective date of an executed Generator Interconnection and Operating Agreement (Interconnection Agreement) between Dominion Virginia Power and Industrial Power Generating Corporation (Ingenco).

Dominion Virginia Power respectfully requests that the Commission allow the Interconnection Agreement, as revised, to become effective on June 1, 2002. Copies of the filing were served upon Ingenco and the Virginia State Corporation Commission.

Comment Date: May 13, 2002.

12. Virginia Electric and Power Company

[Docket No. ER02-1480-001]

Take notice that on April 22, 2002, Virginia Electric and Power Company, doing business as Dominion Virginia Power, tendered for filing a revised cover sheet and Section 2.1 to modify the proposed effective date of an executed Generator Interconnection and Operating Agreement (Interconnection Agreement) between Dominion Virginia Power and Industrial Power Generating Corporation (Ingenco).

Dominion Virginia Power respectfully requests that the Commission allow the Interconnection Agreement, as revised, to become effective on June 1, 2002. Copies of the filing were served upon Ingenco and the Virginia State Corporation Commission.

Comment Date: May 13, 2002.

13. Virginia Electric and Power Company

[Docket No. ER02-1601-000]

Take notice that on April 22, 2002, Virginia Electric and Power Company (Dominion Virginia Power) tendered for filing an executed Generator Interconnection and Operating Agreement (Interconnection Agreement) with Industrial Power Generating Corporation (Ingenco). The Interconnection Agreement sets forth the terms and conditions governing the interconnection between Ingenco's generating facility and Dominion Virginia Power's transmission system.

Dominion Virginia Power requests that the Commission waive its notice of filing requirements and accept this filing to make the Interconnection Agreement effective on July 1, 2002. Copies of the filing were served upon Ingenco and the Virginia State Corporation Commission.

Comment Date: May 13, 2002.

14. Virginia Electric and Power Company

[Docket No. ER02-1602-000]

Take notice that on April 22, 2002, Virginia Electric and Power Company (Dominion Virginia Power) tendered for filing an executed Generator Interconnection and Operating Agreement (Interconnection Agreement) with Industrial Power Generating Corporation (Ingenco). The Interconnection Agreement sets forth the terms and conditions governing the interconnection between Ingenco's generating facility and Dominion Virginia Power's transmission system.

Dominion Virginia Power requests that the Commission waive its notice of filing requirements and accept this filing to make the Interconnection Agreement effective on July 1, 2002. Copies of the filing were served upon Ingenco and the Virginia State Corporation Commission.

Comment Date: May 13, 2002.

15. Virginia Electric and Power Company

[Docket No. ER02-1603-000]

Take notice that on April 22, 2002, Virginia Electric and Power Company (Dominion Virginia Power) tendered for filing an executed Generator Interconnection and Operating Agreement (Interconnection Agreement) with Industrial Power Generating Corporation (Ingenco). The Interconnection Agreement sets forth the terms and conditions governing the interconnection between Ingenco's generating facility and Dominion Virginia Power's transmission system.

Dominion Virginia Power requests that the Commission waive its notice of filing requirements and accept this filing to make the Interconnection Agreement effective on July 1, 2002. Copies of the filing were served upon Ingenco and the Virginia State Corporation Commission.

Comment Date: May 13, 2002.

16. Virginia Electric and Power Company

[Docket No. ER02-1604-000]

Take notice that on April 22, 2002, Virginia Electric and Power Company (Dominion Virginia Power) tendered for filing an executed Generator Interconnection and Operating Agreement (Interconnection Agreement) with Industrial Power Generating Corporation (Ingenco). The Interconnection Agreement sets forth the terms and conditions governing the interconnection between Ingenco's generating facility and Dominion Virginia Power's transmission system.

Dominion Virginia Power requests that the Commission waive its notice of filing requirements and accept this filing to make the Interconnection Agreement effective on July 1, 2002. Copies of the filing were served upon Ingenco and the Virginia State Corporation Commission.

Comment Date: May 13, 2002.

17. AES Alamitos, L.L.C., AES Huntington Beach, L.L.C., and AES Redondo Beach, L.L.C.

[Docket No. ER02-1605-000]

Take notice that on April 19, 2002, pursuant to Section 205 of the Federal Power Act and the Commission's Orders in the referenced dockets, AES Alamitos, L.L.C., AES Huntington Beach, L.L.C., and AES Redondo Beach, L.L.C., filed Amendment No. 2 dated as of March 5, 2002, to the Capacity Sale and Tolling Agreement dated as of May 1, 1998 (Tolling Agreement), and filed executed Corporate Guarantees to replace Schedules 19.1 and 19.2 of the Tolling Agreement.

Comment Date: May 10, 2002.

18. Southern California Edison Company

[Docket No. ER02-1606-000]

Take notice, that on April 22, 2002, Southern California Edison Company (SCE) tendered for filing the Amended and Restated Letter Agreement (Amended Agreement) between SCE and Blythe Energy LLC (Blythe Energy). The Amended Agreement reflects SCE's and Blythe Energy's (Parties) negotiations to amend the original letter agreement in order to incorporate into the Amended Agreement an interim arrangement between the Parties pursuant to which SCE will engineer, design, procure, and commence construction and installation of system facilities to interconnect Blythe Energy's 520 MW generation project to the Western Area Power Administration's transmission system.

SCE requests the Commission to assign an effective date of April 11, 2002 to the Amended Agreement. Copies of this filing were served upon the Public Utilities Commission of the State of California and Blythe Energy.

Comment Date: May 13, 2002.

19. Midwest Independent Transmission System Operator, Inc.

[Docket No. ER02-1607-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by Engage Energy America LLC.

A copy of this filing was sent to Engage Energy America LLC.

Comment Date: May 13, 2002.

20. Midwest Independent Transmission System Operator, Inc.

[Docket No. ER02-1608-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by Northern Indiana Public Service Company.

A copy of this filing was sent to Northern Indiana Public Service Company.

Comment Date: May 13, 2002.

21. Midwest Independent Transmission System Operator, Inc.

[Docket No. ER02-1609-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by Morgan Stanley Capital Group Inc.

A copy of this filing was sent to Morgan Stanley Capital Group Inc.

Comment Date: May 13, 2002.

22. Midwest Independent Transmission System Operator, Inc.

[Docket No. ER02-1610-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by City of Hamilton, Ohio.

A copy of this filing was sent to City of Hamilton, Ohio.

Comment Date: May 13, 2002.

23. Midwest Independent Transmission System Operator, Inc.

[Docket No. ER02-1611-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by J. Aron & Company.

A copy of this filing was sent to J. Aron & Company.

Comment Date: May 13, 2002.

24. Midwest Independent Transmission System Operator, Inc.

[Docket No. ER02-1612-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by Conectiv Energy Supply, Inc.

A copy of this filing was sent to Conectiv Energy Supply, Inc.

Comment Date: May 13, 2002.

25. Midwest Independent Transmission System Operator, Inc.

[Docket No. ER02-1613-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by IDACORP Energy L.P.

A copy of this filing was sent to IDACORP Energy L.P.

Comment Date: May 13, 2002.

26. Midwest Independent Transmission System Operator, Inc.

[Docket No. ER02-1614-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by Ohio Valley Power Scheduling.

A copy of this filing was sent to Ohio Valley Power Scheduling.

Comment Date: May 13, 2002.

27. Midwest Independent Transmission System Operator, Inc.

[Docket No. ER02-1615-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by Tractebel Energy Marketing, Inc.

A copy of this filing was sent to Tractebel Energy Marketing, Inc.

Comment Date: May 13, 2002.

28. Midwest Independent Transmission System Operator, Inc.

[Docket No. ER02-1616-000]

Take notice that on April 22, 2002, Midwest Independent Transmission System Operator, Inc. (Midwest ISO) pursuant to Section 205 of the Federal Power Act and Section 35.13 of the Federal Energy Regulatory Commission's (Commission) regulations, submitted for filing Service Agreements for the transmission service requested by TransCanada Power.

A copy of this filing was sent to TransCanada Power. Comment Date: May 13, 2002.

29. Southern Company Services, Inc.

[Docket No. ER02-1622-000]

Take notice that on April 22, 2002, Southern Company Services, Inc., tendered for filing a Service Agreement with Entergy Services, Inc. for long-term service between Southern Companies and Entergy Services, Inc. The service agreement has been entered into under Southern Companies' Market-Based Rate Tariff, Southern Company Services, Inc., FERC Electric Tariff Second Revised Volume No. 4, with an effective date of June 1, 2002.

Comment Date: May 13, 2002.

30. Alliant Energy Corporate Services, Inc.

[Docket No. ER02-1623-000]

Take notice that on April 22, 2002, Alliant Energy Corporate Services, Inc. (AECS) on behalf of Interstate Power Company (IPC), IES Utilities Inc. (IES) and Wisconsin Power and Light (WPL) tendered for filing a Negotiated Capacity Transaction (Agreement) between IPC and WPL for the period May 1, 2002 through April 30, 2003. The Agreement was negotiated to provide service under the Alliant Energy System Coordination and Operating Agreement among IES, IPC, WPL and Alliant Energy.

Comment Date: May 13, 2002.

31. PJM Interconnection, L.L.C.

[Docket No. RT01-98-007 ]

Take notice that on April 19, 2002, PJM Interconnection, L.L.C. (PJM) supplemented its March 28, 2002 filing in this docket with several additional conforming changes to the PJM Open Access Transmission Tariff (Tariff), Amended and Restated Operating Agreement of PJM Interconnection, L.L.C. (Operating Agreement), and PJM “Transmission Owners Agreement” that are necessary to reflect the April 1, 2002 implementation of the “PJM West” arrangement approved by the Commission in its July 12, 2001, January 30, 2002, and March 1, 2002 orders in this proceeding.

Copies of this filing have been served on all PJM Members and the state electric regulatory commissions in the PJM control area and Allegheny Power System service area.

Comment Date: May 28, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-10807 Filed 5-1-02; 8:45 am]

BILLING CODE 6717-01-P